DEPARTMENT OF TRANSPORTATION

Federal Highway Administration

Environmental Impact Statement: Hill and Blain Counties, Montana

AGENCY: Federal Highway Administration (FHWA), DOT.

ACTION: Notice of intent.

SUMMARY: FHWA hereby gives notice that it intends to prepare an Environmental Impact Statement (EIS) for improvements to US Highway 2, in Hill and Blaine Counties, Montana.

FOR FURTHER INFORMATION CONTACT: Mr. Dale Paulson, Program Development Engineer, FHWA Montana Division, 2880 Skyway Drive, Helena, Montana 59602; Telephone (406) 449-5302, extension 239; or Mr. Carl Helvik, Consultant Design, Montana Department of Transportation, 2701 Prospect Avenue, Helena, Montan 59620-1001; Telephone (406) 444-5446.

SUPPLEMENTARY INFORMATION:

Electronic Access

An electronic copy of this document may be download using a modem and suitable communications software from the Government Printing Office's Electronic Bulletin Board Service at (202) 512-1661. Interent users may reach the Office of the Federal Register's home page at: http://www.nara.gov/fedreg and the Government Printing Office's database at: http://www.access.gpo.gov/nara.

Background

The FHWA, in cooperation with the Montana Department of Transportation (MDT), will prepare an EIS for a proposal to improve US Highway 2 in Hill and Blaine Counties, Montana. The itnent of the proposed project is to replace the aging US Highway 2 with an efficient and safe highway that will be attracitve to the needs of agriculture, industry, commerce and tourism in the ara. The proposed imrpovement corridor is between Havre and Fort Belknap, a distance of approximately 72km (45 miles), and includes the towns of Lohman, Chinook, Zurich, and Harlem.

Alterantives under consideration include: (1) Taking no action; (2) improvements within the existing alignment; (3) improvements on a new alignment; and (4) combination of alternatives (2) and (3).

An extensive public involvement process will be conducted to solicit views and comments from the appropriate agencies and interested private organizations and citizens. The process will include a Citizens Advisory Committee, public meetings and workshops, a public hearing, small group presentations, and meetings with individuals along the corridor. The draft EIS will be available for public and agency reviews and comments prior to the public hearing. Public notice will be given of the time and place of all meetings and hearings.

To ensure that the full range of issues related to this proposed action are addressed and all significant issues identified, comments and suggestions are invited from all interested parties. Comments or questions concerning this proposed action and the EIS should be directed to the FHWA at the address provided.

(Catalog of Federal Domestic Assistance Project Number 20.205, Highway Planning and Construction. The regulations implementing Executive Order 12372 regarding intergovernmental consultation on Federal programs and activities apply to this proposed action.)

(Authority: 23 U.S.C. 315; 49 CFR 1.48)

Issued on: August 1, 2002.
Dale W. Paulson,
Program Development Engineer, Montana Division, Federal Highway Administration, Helena, MT.

[FR Doc. 02-19902 Filed 8-6-02; 8:45 am]

BILLING CODE 4910-22-M